DEPARTMENT OF AGRICULTURE

Rural Housing Service

Rural Business-Cooperative Service

Rural Utilities Service

Farm Service Agency

Notice of Request for Extension of a Currently Approved Information Collection

AGENCIES: Rural Housing Service, Rural Business-Cooperative Service, Rural Utilities Service, Farm Service Agency, USDA.

ACTION: Proposed collection; comments requested.

SUMMARY: In accordance with the Paperwork Reduction Act of 1995, this notice announces the intention of the Agencies to request an extension for a currently approved information collection in support of compliance with the National Environmental Policy Act and other applicable environmental requirements.

DATES: Comments on this notice must be received by August 4, 2003 to be assured of consideration.

FOR FURTHER INFORMATION CONTACT: Richard A. Davis, Director, Program Support Staff, Rural Housing Service, U.S. Department of Agriculture, Stop 0761, 1400 Independence Ave., SW., Washington, DC 20250-0761, Telephone (202) 720-9619.

SUPPLEMENTARY INFORMATION: Title: 7 CFR 1940 Subpart G, “Environmental Program.”

OMB Number: 0575-0094.

Expiration Date of Approval: August 31, 2003.

Type of Request: Extension of a currently approved information collection.

Abstract: The information collection under OMB Number 0575-0094 enables the Agencies to effectively administer the policies, methods, and responsibilities for compliance with the National Environmental Policy Act and other applicable environmental laws, executive orders, and regulations.

The National Environmental Policy Act (NEPA) requires Federal agencies to consider the potential environmental impacts of proposed major federal actions in Agency planning and decision-making processes. For the Agencies to comply, it is necessary that they have information on the types of environmental resources on site or in the vicinity that might be impacted by the proposed action, as well as information on the nature of the project selected by the applicant (the activities to be carried out at the site; any air, liquid and solid wastes produced by these activities, etc.). The applicant is the only logical source for providing this information. In fact, the vast majority of Federal Agencies that assist non-Federal applicants in sponsoring projects require these applicants to submit such environmental data.

The Agencies provide forms and/or other guidance to assist in the collection and submission of information. The information is usually submitted via hand delivery or U.S. Postal Service to the appropriate Agency office.

The information is used by the Agency officer who is processing the application for financial assistance or request for approval. Having environmental information on the proposed project site and the activities to be conducted there enables the Agency official to determine the magnitude of the potential environmental impacts and to take such impacts into consideration in Agency planning and decision-making as required by NEPA. The analysis of the potential environmental impacts of a proposed action is considered to be a full disclosure process, and therefore, can involve public information meetings and public notification.

Estimate of Burden: Public reporting burden for this collection of information is estimated to average 2.94 hours per response.

Respondents: Individuals or households, local governments, farms, business or other for-profit, non-profit institutions, and small businesses and organizations.

Estimated Number of Respondents: 3050.

Estimated Number of Responses per Respondent: 1.71.

Estimated Total Annual Burden on Respondents: 15,320 hours.

Copies of this information collection can be obtained from Renita Bolden, Regulations and Paperwork Management Branch, at (202) 692-0035.

Comments

Comments are invited on: (a) Whether the proposed collection of information is necessary for the proper performance of the functions of the Agencies, including whether the information will have practical utility; (b) the accuracy of Agencies estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Renita Bolden, Regulations and Paperwork Management Branch, Support Services Division, U.S. Department of Agriculture, Rural Development, STOP 0742, 1400 Independence Ave., SW., Washington, DC 20250-0742. All responses to this notice will be summarized and included in the request for OMB approval. All comments will also become a matter of public record.

Dated: May 22, 2003.
Arthur A. Garcia,
Administrator, Rural Housing Service.
Dated: May 22, 2003.
John Rosso,
Administrator, Rural Business-Cooperative Service.
Dated: May 28, 2003.
Hilda Gay Legg,
Administrator, Rural Utilities Service.
Dated: May 28, 2003.
James R. Little,
Administrator, Farm Service Agency.

[FR Doc. 03-13998 Filed 6-3-03; 8:45 am]

BILLING CODE 3410-XV-P